DEPARTMENT OF TRANSPORTATION

Federal Aviation Administration

14 CFR Part 73

[Docket No. FAA-2015-3780; Airspace Docket No. 15-ACE-5]

Modification to Restricted Areas R-3601A & R-3601B; Brookville, KS

AGENCY: Federal Aviation Administration (FAA), DOT.

ACTION: Final rule, technical amendment.

SUMMARY: This action amends Restricted Areas R-3601A and R-3601B, Brookville, KS, to re-define the restricted area boundary segments described using the Missouri Pacific Railroad Track visual landmark. The restricted areas using agency information is also updated to include the military service of the using agency. This action does not affect the overall restricted area boundaries, designated altitudes, times of designation, or activities conducted within the restricted areas. Additionally, boundary segment amendments of the Smoky and Smoky High military operations areas (MOA), ancillary to the restricted areas amendments, are being made. Since R-3601A and R-3601B share boundaries with the Smoky and Smoky High MOAs, the FAA included discussion of the Smoky and Smoky High MOAs amendments in this rule. Lastly, the MOAs using agency is being amended to match the restricted areas using agency information.

DATES: Effective date 0901 UTC, December 10, 2015.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes administrative changes to the descriptions of restricted areas R-3601A and R-3601B, Brookville, KS.

Background

In August 1970, the FAA published a rule in the Federal Register (35 FR 10107, June 19, 1970) establishing the Brookville, KS, restricted areas R-3601A and R-3601B in support of U.S. Air Force (USAF) weapons delivery training requirements. The two restricted areas were originally established laterally adjacent to each other with different ceilings to be activated for use individually, as required. Then, in July 2007, the FAA published another rule in the Federal Register (72 FR 35917, July 2, 2007) that combined the restricted areas lateral boundaries, divided the combined areas vertically instead of laterally, and expanded the vertical limits to flight level 230 (FL230). The lower portion of the combined area (surface to but not including FL180) was re-designated as R-3601A and the upper portion (FL180 to FL230) as R-3601B. The new configuration supported USAF high altitude release bomb training requirements for fighter aircraft and new medium-to-high altitude release bomb training requirement for bombers.

When the restricted areas lateral boundaries were combined in 2007, the boundaries descriptions for R-3601A and R-3601B used the Missouri Pacific Railroad Track to identify a segment of the restricted area boundaries. The railroad track was removed years ago and portions of the railroad right-of-way is mostly obscured by trees or has been plowed under for agriculture. Satellite imagery was used to confirm that the railroad right-of-way is no longer clearly visible and is of little use to Visual Flight Rules (VFR) aircraft trying to navigate by ground reference in the Salina, KS, local area.

The FAA worked with the USAF to re-define the affected boundary segments using geographic (latitude/longitude) coordinates only. The new restricted area boundary descriptions overlay the boundaries previously identified by the visual landmarks that no longer exist. As a result of amending the restricted area boundaries, corresponding amendments to the Smoky and Smoky High MOAs boundaries are also necessary to retain shared boundary segments between the restricted areas and the MOAs.

Additionally, the R-3601A and R-3601B using agency information does not reflect the military service of the using agency listed. To correct this absence of information, the using agency information for the restricted areas is being updated. To ensure standard using agency information for the restricted areas and MOAs supporting the Smoky Hill Air National Guard Range, the Smoky and Smoky High MOAs using agency information is also being updated.

Military Operations Areas (MOA)

MOAs are established to separate or segregate non-hazardous military flight activities from aircraft operating in accordance with instrument flight rules (IFR), and to advise pilots flying under VFR where these activities are conducted. IFR aircraft may be routed through an active MOA only by agreement with the using agency and only when air traffic control can provide approved separation from the MOA activity. VFR pilots are not restricted from flying in an active MOA, but are advised to exercise caution while doing so. MOAs are nonregulatory airspace areas that are established or amended administratively and published in the National Flight Data Digest (NFDD) rather than through rulemaking procedures. When a nonrulemaking action is ancillary to a rulemaking action, FAA procedures allow for the nonrulemaking changes to be included in the rulemaking action. Since the Smoky and Smoky High MOAs amendments are ancillary to the R-3601A and R-3601B amendments being made, the MOA changes are addressed in this rule as well as being published in the NFDD.

The Smoky and Smoky High MOAs boundary descriptions are being amended to incorporate the geographic coordinates used in the R-3601A and R-3601B boundary descriptions to redefine the boundary segments previously defined by the Missouri Pacific Railroad Track. This amendment will ensure shared boundaries with the updated restricted area descriptions and prevent airspace conflict with any potential SUA overlap resulting from the redefined boundary segments. Also, the Smoky and Smoky High MOAs using agency information is being amended to match the associated restricted areas using agency amendments. The amended boundary descriptions and using agency information for the MOAs will be published in the NFDD; the rest of the MOAs legal descriptions remain unchanged.

The Rule

This action amends 14 CFR part 73 by modifying restricted areas R-3601A and R-3601B Brookville, KS. The FAA is taking this action to accurately define the restricted area boundaries using geographic coordinates to overcome the loss of the visual landmark used previously and update the using agency information to include the military service. The following restricted areas boundary and using agency information is amended as indicated:

The R-3601A and R-3601B boundary segments previously described by the Missouri Pacific Railroad Track are redefined using the geographic coordinates, “lat. 38°39′45″ N., long. 97°46′01″ W.; to lat. 38°38′20″ N., long. 97°47′31″ W.”

The R-3601A and R-3601B using agency information is amended by prefacing the existing using agency with “U.S. Air Force.”

This change does not affect the boundaries, designated altitudes, activities conducted within the restricted areas or the actual physical location of the airspace; therefore, notice and public procedure under 5 U.S.C. 553(b) are unnecessary.

The corresponding restricted area boundary segment amendments noted above are also being made to the Smoky and Smoky High MOAs boundary information, as needed, to retain shared boundaries with R-3601A and R-3601B. And, the Smoky and Smoky High MOAs using agency information is amended to match the restricted areas using agency information. The amended Smoky and Smoky High MOAs boundary and using agency information changes addressed in this rule will be published in the NFDD as a separate action with a matching effective date.

This action does not affect the overall restricted area or MOA boundaries; designated altitudes; times of designation; or activities conducted within the restricted areas and MOAs.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5d. This action is an administrative change to the technical description of the affected restricted areas and is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.36 [Amended]

2. Section 73.36 is amended as follows:

R-3601A Brookville, KS [Amended]

Boundaries. Beginning at lat. 38°45′20″ N., long. 97°46′01″ W.; to lat. 38°39′45″ N., long. 97°46′01″ W.; to lat. 38°38′20″ N., long. 97°47′31″ W.; to lat. 38°38′20″ N., long. 97°50′01″ W.; to lat. 38°35′00″ N., long. 97°50′01″ W.; to lat. 38°35′00″ N., long. 97°56′01″ W.; to lat. 38°45′20″ N., long. 97°56′01″ W.; to the point of beginning.

Designated altitudes. Surface to but not including FL180.

Time of designation. Monday through Saturday, 0900 to 1700 local time; other times by NOTAM 6 hours in advance.

Controlling agency. FAA, Kansas City ARTCC.

Using agency. U.S. Air Force, Air National Guard, 184th Air Refueling Wing, Detachment 1, Smoky Hill ANG Range, Salina, KS.

R-3601B Brookville, KS [Amended]

Boundaries. Beginning at lat. 38°45′20″ N., long. 97°46′01″ W.; to lat. 38°39′45″ N., long. 97°46′01″ W.; to lat. 38°38′20″ N., long. 97°47′31″ W.; to lat. 38°38′20″ N., long. 97°50′01″ W.; to lat. 38°35′00″ N., long. 97°50′01″ W.; to lat. 38°35′00″ N., long. 97°56′01″ W.; to lat. 38°45 20″ N., long. 97°56′01″ W.; to the point of beginning.

Designated altitudes. FL180 to FL230.

Time of designation. Monday through Saturday, 0900 to 1700 local time; other times by NOTAM 6 hours in advance.

Controlling agency. FAA, Kansas City ARTCC.

Using agency. U.S. Air Force, Air National Guard, 184th Air Refueling Wing, Detachment 1, Smoky Hill ANG Range, Salina, KS.

* * * * *

Issued in Washington, DC, on October 1, 2015.
Kenneth Ready,
Acting Manager, Airspace Policy Group.

[FR Doc. 2015-25543 Filed 10-6-15; 8:45 am]

BILLING CODE 4910-13-P